FEDERAL MINE SAFETY AND HEALTH REVIEW COMMISSION

Sunshine Act Meetings; Cancellation

May 10, 2022.

The following Commission meeting has been cancelled. No earlier announcement of the cancellation was possible. A Commission meeting in this matter will be rescheduled.

TIME AND DATE: 10:00 a.m., Friday, May 13, 2022.

PLACE: The Richard V. Backley, Hearing Room, Room 511, 1331 Pennsylvania Avenue NW, Suite 504 North, Washington, DC 20004 (enter from F Street entrance).

STATUS: Open.

MATTERS TO BE CONSIDERED: The Commission will consider and act upon the following in open session: Peabody Midwest Mining, LLC and Butler employed by Peabody Mining Midwest Mining, LLC, Docket Nos. LAKE 2019-0023, 2019-0122, 2019-0361. (Issues include whether the Judge erred in concluding that the operator violated standards when it failed to immediately de-energize equipment when it encountered high methane levels, whether the violation was significant and substantial, and whether a supervisor was liable for individual penalties.).

Pursuant to the Commission's COVID-19 Workplace Safety Plan, in-person attendance shall be limited to persons participating in the decisional process (e.g., Chair and Commissioners, Commission employees providing support for the meeting). Non-participating individuals may listen to the meeting by calling the phone number listed below in this notice.

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

PHONE NUMBER FOR LISTENING TO MEETING: 1-(866) 236-7472, Passcode: 678-100.

Authority: 5 U.S.C. 552b.

Dated: May 10, 2022.
Sarah L. Stewart,
Deputy General Counsel.

[FR Doc. 2022-10404 Filed 5-10-22; 4:15 pm]

BILLING CODE 6735-01-P